DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Electronic Application for Patent Examiners—Job Application Rating System (JARS).

Form Number(s): PTO-2041.

Agency Approval Number: 0651-0042.

Type of Request: Extension of a currently approved collection.

Burden: 2,500 hours annually.

Number of Respondents: 5,000 responses per year.

Avg. Hours Per Response: Based on USPTO time and motion studies, the agency estimates that it will take the public approximately 30 minutes to gather and prepare the necessary information, and submit the electronic employment application.

Needs and Uses: The Electronic Application for Patent Examiners—Job Application Rating System (JARS) is used by the public to apply for entry-level patent examiner positions in a user-friendly process. The USPTO uses the electronic transmission of this information to review and rate applicants on-line almost instantaneously. It is also used by the USPTO to expedite the hiring process by eliminating the time used in the mail distribution process, thereby streamlining labor and reducing costs.

Affected Public: Individuals or households; farms; Federal Government, and state, local, or tribal governments.

Frequency: On occasion.

Respondent's Obligation: Voluntary.

OMB Desk Officer: David Rostker, (202) 395-3897.

Copies of the above information collection proposal can be obtained by calling or writing Susan K. Brown, Records Officer, Office of Data Management, Data Administration Division, (703) 308-7400, USPTO, Suite 310, 2231 Crystal Drive, Washington, DC 20231, or by e-mail at susan.brown@uspto.gov.

Written comments and recommendations for the proposed information collection should be sent on or before Sepetember 12, 2002 to David Rostker, OMB Desk Officer, Room 10202, New Executive Office Building, Washington, DC 20503.

Dated: August 2, 2002.
Susan K. Brown,
Records Officer, USPTO, Office of Data Management, Data Administration Division.

[FR Doc. 02-20424 Filed 8-12-02; 8:45 am]

BILLING CODE 3510-16-P